DEPARTMENT OF TRANSPORTATION

Federal Aviation Administration

14 CFR Part 71

[Docket No. FAA-2007-27072 Airspace Docket No. 07-AWP-1]

RIN 2120-AA66

Modification of Class E Airspace; St. Johns, AZ

AGENCY: Federal Aviation Administration (FAA), DOT.

ACTION: Final rule.

SUMMARY: This action modifies the Class E airspace area at St. Johns, AZ. The establishment of an Area Navigation (RNAV) Global Positioning System (GPS) Standard Instrument Approach Procedure (SIAP) to Runway 32 at St. Johns Industrial Air Park, St. Johns, AZ, has made this action necessary. Additional controlled airspace extending upward from 700 feet above the surface is needed to contain aircraft executing the RNAV (GPS) IAP to RWY 32 at St. Johns Industrial Air Park makes this proposal necessary. The intended effect of this action is to provide adequate controlled airspace for aircraft executing the RNAV (GPS) SIAP to RWY 32 at St. Johns Industrial Air Park, St. Johns, AZ.

EFFECTIVE DATE: 0901 UTC, August 30, 2007. The Director of the Federal Register approves this incorporation by reference action under title 1, Code of Federal Regulations, part 51, subject to the annual revision of FAA Order 7400.9 and publication of conforming amendments.

FOR FURTHER INFORMATION CONTACT: Francie Hope, System Support Specialist, Western Service Center, Federal Aviation Administration, 1601 Lind Ave. SW., Renton, Washington 98056; telephone (425) 917-6721.

SUPPLEMENTARY INFORMATION:

History

On March 12, 2007, the FAA proposed to amend 14 CFR part 71 by establishing a Class E Airspace area at St. Johns Industrial Air Park, St. Johns, AZ (72 FR 10953). Additional controlled airspace extending upward from 700 feet above the surface is needed to contain aircraft executing the RNAV (GPS) SIAP to RWY 32 at St. Johns Industrial Air Park, St. Johns, AZ. Interested parties were invited to participate in this rulemaking proceeding by submitting written comments on the proposal to the FAA. No comments to the proposal were received.

The Rule

This action amends Title 14 Code of Federal Regulations (14 CFR) part 71 by modifying the Class E airspace area at St. Johns Industrial Air Park, St. Johns, AZ. The establishment of an Area Navigation (RNAV) Global Positioning System (GPS) Standard Instrument Approach Procedure (SIAP) to Runway 32 at St. Johns Industry Air Park, St. Johns, AZ., has made this action necessary.

Additional controlled airspace extending upward from 700 feet above the surface is needed to contain aircraft executing the RNAV (GPS) SIAP to RWY 32 at St. Johns Industrial Air Park, St. Johns, AZ.

Class E airspace designations are published in paragraph 6005 of FAA Order 7400.9P dated September 1, 2006, and effective September 15, 2006, which is Incorporated by reference in 14 CFR 71.1. The Class E airspace designation listed in this document would be published subsequently in this Order.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS.

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9P, Airspace Designations and Reporting Points, dated September 1, 2006, and effective September 15, 2006, is amended as follows:

Paragraph 6005 Class E Airspace Areas Extending Upward From 700 Feet or More Above.

* * * * *

AWP AZ E5 St. Johns, AZ [Amended]

St. Johns Industrial Air Park, AZ

(Lat. 34 31′07″ N, long. 109 22′ 44″ W)

St. Johns VORTAC

(Lat. 34 25′27″ N, long. 109 08′ 37″ W)

That airspace extending upward from 700 feet above the surface within 4.3 miles each side of the St. Johns VORTAC 296° radial extending from the St. Johns VORTAC to 23 miles northwest of the VORTAC, and that airspace beginning at lat. 34°23′30″ N, long. 109°14′30″ W, to lat. 34°22′00″ N, long. 109°20′00″ W, to lat. 34°26′00″ N, long. 109°21′00″ W, to the point of beginning. That airspace extending upward from 1,200 feet above the surface within 8.7 miles southeast and 6.1 miles northwest of the St. Johns VORTAC 067° and 247° radials, extending from the 7.8 miles northeast to 17.4 miles southwest of the VORTAC, excluding the portion within the state of New Mexico, and that airspace beginning at lat. 34°47′41″ N, long. 109°49′22″ W, to lat. 34°42′54″ N, long. 109°35′03″ W, to lat. 34°40′56″ N, long. 109°37′33″ W, to lat. 34°47′33″ N, long. 109°54′19″ W, to the point of beginning and that airspace bounded by lat. 34°37′06″ N, long. 109°48′33″ W, to lat. 34°28′39″ N, long. 109°2′729″ W, to lat. 34°26′21″ N, long. 109°41′35″ W, to lat.34°33′51″ N, long, 109°52′12″ W, to the point of beginning.

* * * * *

Issued in Seattle, Washington, on May 11, 2007.
Clark Desing,
Manager, System Support Group Western Service Center.

[FR Doc. E7-10259 Filed 5-30-07; 8:45 am]

BILLING CODE 4910-13-P